DEPARTMENT OF ENERGY

Federal Energy Regulatory Commission

[Docket No. EC02-79-000, et al.]

Electric Rate and Corporate Regulation Filings

June 27, 2002.

The following filings have been made with the Commission. The filings are listed in ascending order within each docket classification.

1. Logan Generating Company, L.P., Pittsfield Generating Company, L.P., and Cogentrix Energy, Inc.

[Docket Nos. EC02-79-000, ER95-1007-015, and ER98-4400-004]

Take notice that on June 21, 2002, Logan Generating Company, L.P. (Logan), Pittsfield Generating Company, L.P. (Pittsfield), and Cogentrix Energy, Inc. (Cogentrix) (collectively, Applicants) filed with the Federal Energy Regulatory Commission an application pursuant to section 203 of the Federal Power Act seeking authorization for the transfer of certain jurisdictional facilities that will result from the sale of Cogentrix's indirect interest in Logan and Pittsfield to General Electric Capital Corporation. Logan controls and operates a 218 MW qualifying cogeneration facility located in Logan Township, New Jersey. Pittsfield controls and operates a 165 MW qualifying cogeneration facility located in Pittsfield, Massachusetts. Logan and Pittsfield also request that that the Commission accept the filing as a notice of change in status in their respective rate dockets.

Comment Date: July 11, 2002.

2. Lake Road Trust Ltd., Lake Road Generating Company, L.P.

[Docket No. EC02-80-000]

Take notice that on June 21, 2002, Lake Road Trust Ltd. (Lake Road Trust) and Lake Road Generating Company, L.P. (Lake Road Gen), tendered for filing, pursuant to section 203 of the Federal Power Act, 16 U.S.C. § 824b (1994), and part 33 of the Commission's regulations, 18 CFR part 33, an application to authorize an assignment of beneficial interests in Lake Road Trust to Lake Road Gen.

Comment Date: July 12, 2002.

3. Metcalf Energy Center, LLC

[Docket No. EG02-157-000]

Take notice that on June 21, 2002, Metcalf Energy Center, LLC (Metcalf) filed with the Federal Energy Regulatory Commission (Commission) an application for determination of exempt wholesale generator status pursuant to Part 365 of the Commission's regulations.

Metcalf, a Delaware limited liability company, proposes to own and operate a nominally rated 600 megawatt natural gas-fired, combined cycle electric generating facility to be located in Santa Clara County, California. Metcalf intends to sell the output at wholesale to an affiliated marketer.

Comment Date: July 18, 2002.

4. Keyspan-Ravenswood, Inc.

[Docket No. EG02-158-000]

Take notice that on June 20, 2002 KeySpan-Ravenswood, Inc. (KeySpan-Ravenswood) filed with the Federal Energy Regulatory Commission (FERC or the Commission) an application for determination of exempt wholesale generator status pursuant to part 365 of the Commission's regulations.

KeySpan-Ravenswood states it is a New York corporation that will be engaged directly and exclusively in the business of owning or operating, or both owning and operating, all or part of one or more eligible facilities located in Queens, New York. The eligible facilities will consist of approximately 2,210 MW of gas and/or oil fired electric generation facilities and related interconnection facilities. The output of the eligible facilities will be sold exclusively at wholesale.

Comment Date: July 18, 2002.

5. Maine Public Service Company

[Docket No. ER00-1053-006]

Take notice that on June 18, 2002, pursuant to section 2.4 of the Settlement Agreement filed on June 30, 2000, in Docket No. ER00-1053-000, and accepted by the Federal Energy Regulatory Commission on September 15, 2000, Maine Public Service Company (MPS) submited a correction to its June 17, 2002 informational filing that set forth the changed open access transmission tariff charges effective June 1, 2002 together with back-up materials.

Copies of this filing were served on the parties to the Settlement Agreement in Docket No. ER00-1053-000, the Commission Trial Staff, the Maine Public Utilities Commission, the Maine Public Advocate, and current MPS open access transmission tariff customers.

Comment Date: July 9, 2002.

6. Ameren Services Company

[Docket No. ER02-930-001]

Take notice that on June 24, 2002, Ameren Services Company (ASC) tendered for filing an unexecuted Network Integration Transmission Service Agreement and Network Operating Agreement between ASC and City of Farmington, Missouri. ASC asserts that the purpose of the Agreement is to replace the unexecuted Agreements in Docket No. ER02-930-000 with revised unexecuted Agreements.

Comment Date: July 15, 2002.

7. International Transmission Company

[Docket Nos. ER02-1576-001]

Take notice that on June 24, 2002, International Transmission Company tendered a filing with the in response to a deficiency letter from the Federal Energy Regulatory Commission (Commission) issued on June 14, 2002, in the above-referenced docket. The Commission's June 14, 2002 letter requested additional information and support from International Transmission Company regarding its treatment of certain facilities in its Generator Interconnection and Operating Agreement with FirstEnergy Generation Corp. as interconnection facilities.

Comment Date: July 15, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-16821 Filed 7-3-02; 8:45 am]

BILLING CODE 6717-01-P